DEPARTMENT OF ENERGY

Federal Energy Regulatory Commission

[Docket Nos.CP06-85-002; CP07-41-000]

CenterPoint Energy Gas Transmission Company; Notice of Application

December 21, 2006.

On December 15, 2006, in Docket No. CP06-85-002 , CenterPoint Energy Gas Transmission Company (CEGT), pursuant to section 7(c) of the Natural Gas Act, as amended, and section 157 Subpart A of the Federal Energy Regulatory Commission's (Commission) regulations, filed requests to modify the certificated Phase I and Phase II Line CP facilities to increase the certificated capacity of Line CP by approximately 36,000 Dth/d and to increase the maximum allowable operating pressure from 1000 psig to 1168 psig, pending approval by the Department of Transportation of CEGT's petition for waiver of DOT's regulations to allow CEGT to operate Line CP at 80 percent of Specified Minimum Yield Strength. In Docket No.CP07-41-000, CEGT seeks authorization to construct, own and operate 30,000 hp of additional compression for a Phase III Expansion of Line CP that will increase the capacity of the line by an additional 280,000 Dth/d. CEGT would install a 15, 000 hp compressor respectively at the new Westdale Station in Red River Parish, Louisiana and at the existing Panola Station in Panola County, Texas, all as more fully described in the application. CEGT seeks issuance of the requested authorizations by May 1, 2007 so that facilities may be operable in time for the 2007-2008 winter heating season.

Questions concerning the application should be directed to: Lawrence O. Thomas, Director-Rates & Regulatory at CenterPoint Energy Gas Transmission Co., P.O. Box 21734, Shreveport, Louisiana 71151, or by calling (318) 429-2804; Mark C. Schroeder, Vice President & General Counsel at CenterPoint Energy Gas Transmission Co., P.O. Box 1700, Houston, TX 77210-1700, or by calling (713) 207-3395; and, Richard D. Avil, Jr. and Jonathan Christian at Jones Day, 51 Louisiana Ave., NW., Washington, DC 20001 or by calling 202-879-3939.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding. However, a person does not have to intervene in order to have comments considered.

The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. See 18 CFR 385.2001(a)(1)(iii) and the instructions on the Commission's Web site under the “e-Filing” link at http://www.ferc.gov . The Commission strongly encourages intervenors to file electronically. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on January 23, 2007.

Magalie R. Salas,
Secretary.

[FR Doc. E6-22353 Filed 12-28-06; 8:45 am]

BILLING CODE 6717-01-P